DEPARTMENT OF THE INTERIOR

National Park Service

[NPS-WASO-NAGPRA-23289; PPWOCRADN0-PCU00RP14.R50000]

Notice of Intent To Repatriate Cultural Items: Allen County-Fort Wayne Historical Society, Fort Wayne, IN

AGENCY: National Park Service, Interior.

ACTION: Notice.

SUMMARY: The Allen County-Fort Wayne Historical Society, in consultation with the appropriate Indian tribes or Native Hawaiian organizations, has determined that the cultural items listed in this notice meet the definition of unassociated funerary objects. Lineal descendants or representatives of any Indian tribe or Native Hawaiian organization not identified in this notice that wish to claim these cultural items should submit a written request to the Allen County-Fort Wayne Historical Society. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Allen County-Fort Wayne Historical Society at the address in this notice by July 3, 2017.

ADDRESSES: Walter Font, Curator, Allen County-Fort Wayne Historical Society, 302 East Berry Street, Fort Wayne, IN 46802, telephone (260) 426-2882, email wfont@comcast.net.

SUPPLEMENTARY INFORMATION: Notice is here given in accordance with the Native American Graves Protection and Repatriation Act (NAGPRA), 25 U.S.C. 3005, of the intent to repatriate cultural items under the control of the Allen County-Fort Wayne Historical Society, Fort Wayne, IN, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On an unknown date, two cultural items were removed from a grave in the Lakeside District of Fort Wayne, Allen County, IN. At some time prior to 1947, the funerary objects were acquired from Mr. W.T. Angel by the Allen County-Fort Wayne Historical Society. No other provenience information is available. The 2 unassociated funerary objects are 1 animal tusk and 1 hatchet head.

In 1928, one cultural item was removed from a grave on Prospect Avenue in Fort Wayne, Allen County, IN. In 1933, the funerary object was acquired from Mr. Theodore Waldo by the Allen County-Fort Wayne Historical Society. No other provenience information is available. The 1 unassociated funerary object is a stone pipe bowl.

On an unknown date, five cultural items were removed from a grave in the Spy Run District of Fort Wayne, Allen County, IN. At some time prior to 1947, the funerary objects were acquired from an unknown source by the Allen County-Fort Wayne Historical Society. Catalog records state that the funerary objects were found in an “Indian grave in the Spy Run District, Fort Wayne.” The 5 unassociated funerary objects are 4 silver brooches and 1 brass button.

On an unknown date, two cultural items were removed from a grave on West Washington Street in Fort Wayne, Allen County, IN. In 1934, the objects were acquired from an unknown source by the Allen County-Fort Wayne Historical Society. Catalog records state that the funerary objects were found in a grave at “1415 W. Washington Street.” The 2 unassociated funerary objects are 2 steel strikers.

On unknown dates, seven cultural items were removed from graves in “the Miami burial ground” in the Spy Run District of Fort Wayne, Allen County, IN. In about 1928, the funerary objects were acquired from Mr. Jacob M. Stouder, a local collector, by the Allen County-Fort Wayne Historical Society. The 7 unassociated funerary objects are 1 set of pistol fragments, 1 tomahawk, 1 stone pipe, 2 clay pipes, and 2 stone tools.

On an unknown date, one cultural item was removed from a grave at Lawton Place in Fort Wayne, Allen County, IN. In 1932, the funerary object was acquired from Mrs. George Gillie by the Allen County-Fort Wayne Historical Society. No other provenience information is available. The 1 unassociated funerary object is an iron hoe blade.

In May of 1933, 10 cultural items were removed from a grave on Prospect Avenue in Fort Wayne, Allen County, IN. In 1935, the funerary objects were purchased from Mr. Orville Smith by the Allen County Fort Wayne-Historical Society. No other provenience information is available. The 10 unassociated funerary objects are 1 set of musket fragments, 1 clay pipe, 1 metal tack hammer, 2 metal files, 2 metal harpoon tips, 1 copper tube bead, 1 pair of scissors fragments, and 1 whetstone.

In about 1910, one cultural item was removed from Lawton Place in Fort Wayne, Allen County, IN, by Vernon Ferguson. Mr. Ferguson removed the funerary object from a grave exposed during excavation for a house basement. In 1984, the funerary object was acquired from Mr. Ferguson by the Allen County-Fort Wayne Historical Society. The 1 unassociated funerary object is a copper pot with iron bail.

In 1907, one cultural item was removed from the grave of Miami Indian Chief Coesse in Huntington County, IN. At some time prior to 1947, the funerary object was acquired from Mr. Charles More by the Allen County Fort Wayne-Historical Society. No other provenience information is known. Chief Coesse was a Miami Indian who resided in northeast Indiana. He died in about 1853, and was buried near Roanoke, IN, and has no known descendants. Evidence from Society records and secondary sources indicate that the unassociated funerary object is affiliated with a Miami Tribal chief. The 1 unassociated funerary object is a small glass vial containing beads.

The above listed sites are estimated to date from the late 1700s to the early 1800s. The evidence available indicates that the sites are related to the Miami Tribe of Oklahoma, whose tribal lands were located in northeast Indiana from about 1710 to the early 1800s. Their villages were at or near the present location of Fort Wayne, IN, primarily north of the confluence of the St. Joseph and St. Mary's Rivers which, together, form the Maumee River. These areas include the Spy Run District, including Prospect Avenue and Lawton Place, and the Lakeside area of Fort Wayne. The assessment that these unassociated funerary objects should be attributed to the Miami Tribe of Oklahoma was confirmed by the Miami Tribe of Oklahoma and Pokagon Band of Potawatomi Indians, Michigan and Indiana, during consultation.

Determinations Made by the Allen County-Fort Wayne Historical Society

Officials of the Allen County-Fort Wayne Historical Society have determined that:

• Pursuant to 25 U.S.C. 3001(3)(B), the 30 cultural items described above are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between the unassociated funerary objects and the Miami Tribe of Oklahoma.

Additional Requestors and Disposition

Lineal descendants or representatives of any Indian tribe or Native Hawaiian organization not identified in this notice that wish to claim these cultural items should submit a written request with information in support of the claim to Walter Font, Curator, Allen County-Fort Wayne Historical Society, 302 East Berry Street, Fort Wayne, IN 46802, telephone (260) 426-2882, email wfont@comcast.net, by July 3, 2017. After that date, if no additional claimants have come forward, transfer of control of the unassociated funerary objects to the Miami Tribe of Oklahoma may proceed.

The Allen County-Fort Wayne Historical Society is responsible for notifying the Miami Tribe of Oklahoma and Pokagon Band of Potawatomi Indians, Michigan and Indiana, that this notice has been published.

Dated: April 21, 2017.
Melanie O'Brien,
Manager, National NAGPRA Program.

[FR Doc. 2017-11447 Filed 6-1-17; 8:45 am]

BILLING CODE 4312-52-P